DEPARTMENT OF TRANSPORTATION

National Highway Traffic Safety Administration

49 CFR Part 571, 585, 586, 589, 590, and 596

[Docket No. NHTSA-03-15817; Notice 1]

RIN 2127-AI91

Federal Motor Vehicle Safety Standards; Occupant Crash Protection

AGENCY: National Highway Traffic Safety Administration (NHTSA), Department of Transportation.

ACTION: Notice of proposed rulemaking.

SUMMARY: This document proposes to require all designated seating positions in rear seats, other than side-facing seats, be equipped with integral lap/shoulder safety belts. This proposal responds, in part, to a Congressional mandate that the agency begin to phase-in requirements for lap/shoulder belts for all rear seating positions, wherever practicable, not later than September 1, 2005.

DATES: You should submit your comments early enough to ensure that Docket Management receives them not later than October 6, 2003.

ADDRESSES: You may submit comments [identified by DOT DMS Docket Number 03-15817] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov, including any personal information provided. Please see the Privacy Act heading under Regulatory Analyses and Notices.

Docket: For access to the docket to read background documents or comments received, go to http://dms.dot.gov at any time or to Room PL-401 on the plaza level of the Nassif Building, 400 Seventh Street, SW., Washington, DC between 9 a.m. and 5 p.m., Monday through Friday, except Federal Holidays.

FOR FURTHER INFORMATION CONTACT: For non-legal issues, you may call Sanjay Patel, Office of Crashworthiness Standards, at 202-366-4583.

For legal issues, you may call Rebecca MacPherson, Office of the Chief Counsel, at 202-366-2992.

You may send mail to both of these officials at the National Highway Traffic Safety Administration, 400 Seventh St., SW., Washington, DC 20590.

SUPPLEMENTARY INFORMATION:

Table of Contents

I. Background

II. The Safety Problem

III. Proposed Requirements

IV. Anticipated Benefits and Costs of Proposed Requirements

V. Phase-in of New Requirements

VI. Request for Comments

VII. Rulemaking Analyses and Notices

I. Background

On December 4, 2002, the President signed into law “Anton's Law”, Pub. L. 107-318 (December 4, 2002; 116 Stat. 2772), which provides for the improvement of child safety devices when installed in motor vehicles. One of the provisions of Anton's Law concerns the installation of lap/shoulder belts in rear seating positions. Specifically, section 5(a) of the law directs the Secretary of Transportation, through NHTSA, to issue a final rule by December 2004 that would:

require a lap and shoulder belt assembly for each rear designated seating position in a passenger motor vehicle with a gross vehicle weight rating of 10,000 pounds or less, except that if the Secretary determines that installation of a lap and shoulder belt assembly is not practicable for a particular designated seating position in a particular type of passenger motor vehicle, the Secretary may exclude the designated seating position from the requirement.

Section 5(b) of the statute further specifies that the final rule be implemented in phases on a production year basis, beginning with the closest production year after the year the final rule is published.¹ The rule is to be effective for all vehicles by the third production year of the phase-in. Thus, according to the schedule mandated by Anton's Law, the phase-in would commence on September 1, 2005, and all vehicles not covered by the phase-in would have to meet the requirements of the final rule by September 1, 2007.

¹ “The requirement prescribed under subsection (a)(1) shall be implemented in phases on a production year basis beginning with the production year that begins not later than 12 months after the end of the year in which the regulations are prescribed under subsection (a). The final rule shall apply to all passenger motor vehicles with a gross vehicle weight rating of 10,000 pounds or less that are manufactured in the third production year of the implementation phase-in under the schedule.”

The Anton's Law requirement is fully consistent with the agency's pre-existing plan to initiate rulemaking that would expand upon the current requirement in Federal Motor Vehicle Safety Standard No. 208, Occupant crash protection (FMVSS No. 208) that, subject to certain exceptions, all rear seating positions be equipped with integral lap/shoulder belts.² An entry for this rulemaking appeared in the DOT Semiannual Regulatory Agenda published December 9, 2002 (67 FR 74943).

² An integral lap/shoulder belt, also referred to as a Type 2 belt, is one where the lap and shoulder portion are either both attached at the buckle assembly or are a continuous piece of webbing, along which the buckle assembly moves. In either instance, there is a single buckle for both the lap and shoulder portion of the belt. An integral lap/shoulder belt is different from a lap/shoulder belt that is integrated into the seat back. This second type of belt is an integral lap/shoulder belt for which the upper shoulder anchorage is physically attached to the seat back rather than to the vehicle structure.

The agency first addressed mandatory lap/shoulder belts for rear seats in 1984 (49 FR 15241, April 18, 1984), when it denied a petition to initiate rulemaking that would require such belts for rear outboard seating positions of passenger cars. The petition largely focused on the need for such systems to restrain children adequately in booster seats. At the time of the denial, NHTSA was considering a requirement that vehicles be equipped with a tether anchorage to secure a then-popular child restraint. The agency believed this approach would offer greater protection than requiring a lap/shoulder belt. While NHTSA acknowledged that a lap/shoulder belt would offer additional protection, it concluded that rear lap belts already provided effective protection to occupants in the rear seat. It also concluded that the cost associated with a rear lap/shoulder belt would be too great, given the low rate of belt use in the rear seat.

The agency was again petitioned to require rear lap/shoulder belts in 1986. Once again the petition focused on the increased protection that would be afforded to children riding in motor vehicles. NHTSA granted the petition because of two new factors: many states had adopted mandatory safety belt use laws, and the child restraint industry had moved away from child seat designs that could be tethered to the vehicle. While still concerned about the high cost of rear lap/shoulder belts relative to the expected reduction in deaths and injuries, the agency published first an advance notice of proposed rulemaking (ANPRM) and then a notice of proposed rulemaking (NPRM) to require manufacturers to install lap/shoulder belts in all forward-facing rear outboard seating positions in vehicles with a gross vehicle weight rating (GVWR) under 4,536 kg (10,000 pounds). See 52 FR 22818, June 16, 1987 and 53 FR 47982, November 29, 1988, respectively.

On June 14, 1989 (54 FR 25275), the agency published the first of two final rules addressing the issues raised in the 1988 NPRM (53 FR 47982). The rule established a new requirement mandating lap/shoulder belts for forward-facing rear outboard seating positions in all passenger cars other than convertibles. At that time, the agency estimated that approximately 90 percent of the projected benefits for lap/shoulder belts in all rear designated seating positions of passenger cars would accrue to occupants in the outboard seats because those are the rear seats that are most frequently occupied. Given the relatively small projected benefits related to center seating positions and the potential costs and technical difficulties associated with anchoring the shoulder portion of the belt at the center seating position, NHTSA decided against mandating lap/shoulder belts for any rear seat other than forward-facing outboard seats.

On November 2, 1989, NHTSA published its second final rule on rear lap/shoulder belts (54 FR 46257). This rule extended the requirements of the June 14 final rule to convertibles, light trucks, multi-purpose vehicles like passenger vans and sport utility vehicles (SUVs), and small buses other than school buses. As in the earlier final rule, center seating positions and non-forward-facing seating positions were excluded from the requirements. Outboard seating positions that abutted an aisle located along the side of a vehicle, i.e., a passenger van, were likewise excluded. The agency noted that while rear lap belts reduce the risk of death by 24-40 percent, rear lap/shoulder belts would reduce that risk by 32-50 percent. The agency postulated that there would be even more benefits if occupants were more willing to use the lap/shoulder belt than the lap belt.

Much has changed since NHTSA issued the two final rules in 1989. At present, all 50 states and the District of Columbia, Puerto Rico, and the U.S. Territories have child passenger safety laws that require children to be properly restrained in an approved child restraint or by the vehicle's belt system. In 1987, belt use in the rear seat was only 16 percent. Today, the agency estimates that the rate of belt use in the center rear seat is 50 percent in passenger cars and 57 percent in light trucks and vans (LTVs). Belt use among all rear seat passengers is 58.5 percent for passenger cars and 66.3 percent for LTVs. Over time, belt use has been increasing for these positions. It is believed that a lap/shoulder belt in the rear center position will lead to a further increase in belt use. In addition, children are increasingly riding in the back seat in response to educational campaigns designed to educate parents and other caregivers about the risk to children from riding in the front seat. NHTSA recently examined rear seat occupancy patterns for children up to nine years of age. It found that while the number of fatalities among children in this age group was evenly divided between the front and rear seat in 1991, by 2000, the front seat accounted for 56 percent fewer fatalities than the rear seat. The major change in distribution occurred between 1996 and 2000, the time frame during which consumers were urged to place their children in the back seat due to the risk of air bag-related injury or death.³

³ The development and implementation of advanced air bag technologies does not obviate the need for additional rear seat protections. To the contrary, it remains imperative that children ride in the back seat regardless of the type of air bag system integrated into the vehicle. This is because the back seat provides a safer environment for all occupants, even if the vehicle has no air bag, and because even the most advanced technology cannot completely eliminate risk.

Additionally, consumer information campaigns, which advocate child restraints for children up to eight years of age, unless they are taller than 4′9″ have been increasingly successful in convincing parents to keep their children in appropriate child restraints well past the age mandated by state law. Finally, states have recently begun to increase the minimum age requirements for child restraints. Nine states and the District of Columbia have enacted legislation that requires children be restrained in a child restraint at least to age six. Seven other states require child restraint use up to age five. The increase in child restraint usage by older children has led to greater use of belt-positioning booster seats. These seats, in which the vehicle safety belt serves to hold both the child and the restraint in place, are most often designed for use with a lap/shoulder belt.

Today's proposal seeks to increase the use of belt-positioning boosters and to improve the safety of all occupants in the center rear seating position, regardless of whether the occupant is seated in a booster seat. While this seating position may not be used as often as the rear outboard seats, we believe that an individual is more likely to survive a side impact collision if seated in the center seat than if seated in the impacted outboard seat, as the empty space between the side of the vehicle and the occupant provides a significant amount of crush space. We believe that this proposal will provide these occupants with the same level of safety belt protection as the occupants of other seating positions.

II. The Safety Problem

As indicated above, one of the primary reasons for today's proposal is the increased protection that children between the ages of four and eight gain by having a lap/shoulder belt made available in rear center seating positions. When these lap/shoulder belts are installed in the rear center seating position, there will be an additional, and potentially safer, seating position available for a child in a belt-positioning booster seat. Lap/shoulder belts are 12 percent more effective in preventing AIS 2-5 injuries and fatalities than lap belts in rear seats of passenger cars and ten percent more effective in preventing AIS 2-5 injuries and fatalities in rear seats of light trucks. These effectiveness rates assume that the belts are properly positioned. The increased effectiveness for children who are not properly positioned would likely be less. Belt positioning booster seats should enable children to attain the same effectiveness rates from lap/shoulder belts as the rest of the population, since they allow proper positioning for children in the four- to eight-year-old age group. Additionally, the presence of a center lap/shoulder belt may shift seat usage from the outboard positions to the center seat position. This would lead to some reduction of injury or death in side impact crashes.

The potential benefits associated with requiring lap/shoulder belts for rear center seating positions is not limited to the potential for increased use of booster seats. It would also benefit older occupants. In order to estimate the number of individuals who travel in the center seats of vehicles, NHTSA examined the National Automotive Sampling System (NASS) Crashworthiness Data System (CDS) data from 1988 to 1999. Overall, the NASS CDS data indicated that, in this eleven-year period, approximately eight percent of the roughly 19.6 million individuals involved in tow away crashes were seated in a center seat. Eighty percent of the center seat occupants were in the rear. The agency then looked at the distribution of the annualized maximum abbreviated injury scale (MAIS) injury levels for occupants seated in center seating positions in passenger cars and LTVs from 1996 to 1999. The vast majority of these injuries were sustained by individuals seated in the rear center seat, with approximately 20 percent of the occupants in passenger cars seated in a front center seat and 53 percent of the occupants in LTVs seated in a front center seat.

In a 1999 study, NHTSA found that belt use was approximately seven to ten percent higher at back outboard designated seating positions with a lap/shoulder belt than at ones with only a lap belt.⁴ While the agency cannot explain why belt use is higher, the combination of higher belt use and increased benefits related to the additional protection afforded by the shoulder belt result in greater benefits than lap belts alone. This is true for every forward-facing seating position.

⁴ “Effectiveness of Lap/Shoulder Belts in the Back Outboard Seating Positions,” Evaluation Division, Plans and Policy, National Highway Traffic Safety Administration, Washington, DC June 1999. DOT HS 808 945.

Current belt use among rear center-seated passengers in passenger cars is approximately fourteen percentage points less than among occupants in the front passenger seat, 49.6 percent as opposed to 63.3 percent. The belt use among rear-seated passengers in LTVs is generally equivalent to belt use by occupants in the front passenger seat, 57.4 percent and 57.6 percent, respectively.

If the switch from lap belts to lap/shoulder belts in rear center seating positions did not lead to any increase in belt use, NHTSA estimates that the addition of a shoulder belt to the rear center seating positions of passenger cars would prevent five fatalities and 111 injuries (AIS 2-5) annually. Similar numbers, five fatalities and 134 injuries (AIS 2-5) would be achieved in requiring lap/shoulder belts in the rear center seats of LTVs. These reductions in injuries and fatalities are purely the result of the added protection offered by the shoulder belt.

As noted above, the agency has observed a seven to ten percent increase in belt usage for seating positions equipped with a lap/shoulder belt rather than just a lap belt. Assuming that the switch to lap/shoulder belts lead to a ten percent increase in belt use, the agency would expect to see the benefits increase to 16 fewer fatalities, 77 fewer AIS 1 injuries, and 202 fewer AIS 2-5 injuries in passenger cars equipped with rear center lap/shoulder belts. Likewise, it would expect to see the benefits increase to 17 fewer fatalities, 60 fewer AIS 1 injuries, and 317 fewer AIS 2-5 injuries in LTVs equipped with rear lap/shoulder belts. Most of the reduction in injuries would be in the AIS 2 range. These are injuries that, while not life-threatening, can result in significant financial costs and long-term pain and suffering.

III. Proposed Requirements

Today we are proposing to require lap/shoulder belts for all forward-facing designated seating positions other than the center front seat for all passenger cars and for most other vehicles with a GVWR under 4,536 kg (10,000 lb), unless there is an exception for a particular type of vehicle.⁵ The vehicle exceptions are discussed below. We are also proposing to require lap/shoulder belts for rear-facing seats.

⁵ The rule, if adopted, would include school buses under 4,536 kg (10,000 lb). However, the agency is currently working on a separate rulemaking regarding seat belts in school buses. Accordingly, this document will not further discuss potential requirements for lap/shoulder belts on school buses with a GVWR under 10,000 lb.

Since the rulemakings of the late 1980s, manufacturers have begun voluntarily installing lap/shoulder belts in the rear center seating position. Data collected in the course of preparing NHTSA's “Buying a Safer Car” brochure indicate a significant increase in the voluntary installation of lap/shoulder belts in that position. Those data indicate a nearly twofold increase in the number of vehicle models with center rear lap/shoulder belts between MY 2000 (66 models) and MY 2002 (120 models). While those data cannot be used to make projections for the overall fleet, they are indicative of a strong upward trend. An analysis of passenger cars and LTVs sold during 1999 to 2000 reveals that approximately 8.2 percent of the passenger cars were equipped with either two or four seats and did not have any center seating position. Approximately 69 percent came equipped with a lap/shoulder belt in the rear center seating positions. The rest of the fleet, approximately 23 percent, would have to be, for the first time, equipped with a rear center lap/shoulder belt should we decide to issue a final rule adopting today's proposal. The percentages for LTVs are roughly reversed. Approximately 67 percent of LTVs sold during 1999 to 2000 had only a lap belt in the rear center seating positions.

We have also tentatively decided to require lap/shoulder belts for rear-facing seats and for forward-facing outboard seats adjacent to an aisle. While we have little data to determine whether a shoulder belt will reduce the risk of death or injury in a rear-facing seat during a frontal collision, it is likely that a shoulder belt integrated into the seat would reduce occupant trajectory in frontal and rear crashes. However, a shoulder belt mounted to a side pillar may not be as beneficial in a frontal crash. FMVSS No. 208 currently allows a rear forward-facing outboard seat that is adjacent to an aisle that runs between the seat and the side of the vehicle to be equipped with only lap belts if that aisle is used to gain access to seats rearward of the seat in question. This exclusion was added to the standard to address potential ingress/egress problems for those more rearward seats and because anchorages attached to the side of the vehicle could be a poor fit with the vehicle seat. With the advent of lap/shoulder belts that are integrated into the seat back, we believe such an exception may no longer be needed. Likewise, a manufacturer could choose to anchor the shoulder portion of the belt to the vehicle roof rather than the side of the vehicle.

At the present time, we are not planning on changing the lap/shoulder belt requirements for swivel seats or for readily removable seats. Both of these types of seats may have modified lap/shoulder belt assemblies. Currently, FMVSS No. 208 specifies that seats that can be adjusted to be forward-facing and to face in some other direction (e.g., swivel seats) must have at least a lap belt at all positions in which the seat may be placed while the vehicle is in motion. Additionally, the seat must have at least a non-integral lap/shoulder belt that is usable while the seat is in its forward-facing position. While integral lap/shoulder belts are also permissible, a non-integral belt allows a passenger to only buckle the lap portion of the belt while the seat is forward-facing, although the occupant does have the option to use both the lap and shoulder portion of the belt. This exception may no longer be needed with the advent of lap/shoulder belts that are integrated into the seat back. The standard also permits readily removable seats to have a shoulder belt that may be detached at either the upper or lower shoulder belt anchorage, but not both. Again, the advent of lap/shoulder belts integrated into the seat back may obviate the need for this exception.

We have tentatively decided against requiring lap/shoulder belts for the center front seat, because the projected benefits, when compared to the cost involved in requiring lap/shoulder belts for this seating position, are so low. The primary reason that benefits are so low is because belt use among front center seat occupants is low, particularly in LTVs. While the belt use rate in the front center seating position of passenger cars is 25.6 percent, in LTVs it is only 16 percent. However, we also recognize that requiring lap/shoulder belts for the center front seating position would allow individuals who do use their seat belt to receive the additional benefit of a shoulder belt. We estimate that, assuming a ten percent increase in belt use rates due to the addition of a shoulder belt, there would be approximately four fewer fatalities and ten fewer injuries (AIS 2-5) per year if a lap/shoulder belt were required for front center seat positions in passenger cars. For LTVs, the numbers are quite a bit higher, with an estimated 12 fewer fatalities and 59 fewer injuries (AIS 2-5) per year. Additionally, being able to use a booster seat in the front center position could have a further incremental safety benefit in those vehicles where there are no rear seating positions by enabling the use of a belt-positioning booster seat at that seating position. Accordingly, the benefit associated with a front center lap/shoulder belt may be particularly high for LTVs; this may be especially true for pick-up trucks with a single row of seating, where the additional cost of the shoulder belt would be minimal, there are no other locations other than the right outboard passenger seat to place a booster seat, and the presence of a lap/shoulder belt may increase the currently low levels of belt use. A more thorough discussion of the costs associated with this rulemaking is provided below.

Likewise, we have tentatively decided against proposing to require lap/shoulder belts for side-facing seats, although we are seeking comment on this. Lap belts would be required for side-facing seats that are designated seating positions. While we are unaware of any studies demonstrating benefits related to the addition of a shoulder belt for side-facing seats, there could be some benefit to having a lap/shoulder belt in rollovers or if the opposite side of the vehicle is struck. Additionally, we have some concern that the shoulder belt, depending on its placement, could actually harm an occupant sitting in a side-facing seat. This is because the shoulder portion of the belt could load the neck during a frontal collision.

Finally, we have tentatively decided to retain some vehicle exceptions to the current rear lap/shoulder provisions contained in FMVSS No. 208. Specifically, rear designated seats in motor homes, walk-in van-type trucks, and vehicles designed to be sold exclusively to the U.S. postal service would be excluded from the rear lap/shoulder belt requirements. The rear seats in LTVs carrying chassis-mount campers with a GVWR greater than 3,855 kg (8,500 lb) and no greater than 4,536 kg (10,000 lb) need only be equipped with a lap belt.

While not proposing any changes to the current FMVSS No. 208 comfort and convenience requirements and the various barrier tests contained in FMVSS No. 208, we are seeking comment on whether rear seat requirements should be considered. Since the benefits associated with lap/shoulder belts can only be realized if they are used correctly, it may be appropriate to consider requiring adjustable upper anchorages. For example, some vans have shoulder belts mounted as far back as the next rearward seating position. These designs may not provide a particularly good fit. Other designs may be equally uncomfortable, particularly for children. Accordingly, we are presently evaluating the need for rear seat adjustability requirements to ensure that a minimum level of comfort is provided. As is presently the case, today's proposal contemplates imposing rear seat lap/shoulder belt requirements without a corresponding test requirement that the belts provide a requisite level of protection in a crash. Such a test procedure, while desirable, could be difficult to implement given the relatively small space in the rear seat. However, the agency will monitor the performance of rear seat belt systems in various agency programs to ensure that they are effective at mitigating injury.

IV. Anticipated Benefits and Costs of Proposed Requirements

As indicated above, NHTSA anticipates that the addition of a shoulder belt to the rear center seating positions in passenger cars would prevent between five and 16 fatalities and 111-279 injuries (AIS 1-5) per year. If lap/shoulder belts were required at all forward-facing rear seating positions in LTVs, an additional five to 17 fatalities and 134 to 377 injuries (AIS 1-5) would be prevented annually. If all center seating positions were equipped with lap/shoulder belts, seven to 20 fatalities and 118 to 324 injuries (AIS 1-5) could be prevented per year in passenger cars and eight to 29 fatalities and 142 to 505 injuries (AIS 1-5) could be prevented in LTVs annually.

Approximately 23 percent of the passenger car fleet, or 2,032,842 passenger cars, would need to be equipped with an additional shoulder belt should the agency decide to issue a final rule adopting today's proposal. Approximately 57.5 percent of the LTV fleet, or 4,326,850 LTVs would need to be equipped with an additional shoulder belt. Approximately 41 percent of this total (1,779,078) consists of SUVs, approximately 36 percent (1,563,389) consists of light trucks, and approximately 23 percent (984,383) consists of vans. Additionally, if NHTSA were to require a center lap/shoulder belt for light trucks with only one row of seats, approximately 11 percent (966,128) of the LTV fleet would need to be equipped with an additional lap/shoulder belt.

NHTSA estimates the average cost of installing a lap/shoulder belt in the front outboard seat of a passenger car is $28.25. The average cost of a lap belt currently installed in the center rear seat of a passenger car is $12.84. Accordingly, NHTSA estimates that the net cost of installing a lap/shoulder belt in the center rear seat of a passenger car would average $15.41. The average cost of installing front outboard lap/shoulder belts in LTVs is somewhat higher than for passenger cars: $35.79 as opposed to $28.25. However, this difference is largely related to differences in the seat geometry of the two different types of vehicles. We would not expect to see these differences in a rear center seating position. Assuming the shoulder portion of the center rear seat costs the same as the shoulder portion of an outboard rear seat, we anticipate that the net cost, per belt, for LTVs would be the same as for passenger cars. The total net cost associated with replacing lap belts with lap/shoulder belts at rear center seating positions is anticipated to be approximately $109 million.

The rear seat of pick-up trucks and passenger cars (other than station wagons) would not need to be reinforced to anchor the center lap/shoulder belts. Likewise, the seat of a front seat-only pick-up truck would not need to be reinforced. This is because the upper anchorages for these vehicles can be attached to the back package shelf or to the floor frame of the vehicle without impinging on the available occupant floor space or cargo space. The same is not true for passenger vans and SUVs. In these vehicles, there might be no back package shelf and the floor space behind the seat might be needed to accommodate vehicle occupants or cargo. While other anchorage locations might exist, for cost purposes NHTSA is assuming that most manufacturers would choose to install lap/shoulder belts that are integrated into the seat back. This might require the seat back to be reinforced at an estimated cost of $31.08 per seating position. The estimated total cost of such reinforcements is approximately $109 million. The total cost of the rule would be $218 million.⁶

⁶ Since the number of buses under 4,536 kg (10,000) is negligible, the addition of lap/shoulder belts to these vehicles would not impact the total cost of the rule.

V. Phase-in of New Requirements

Anton's Law requires that NHTSA issue a final rule not later than December 2004. It further specifies that the final rule be implemented, in stages, starting not later than September 1, 2005 and be fully implemented no later than September 1, 2007. Thus, the rule would be phased-in between September 1, 2005 and September 1, 2007. We are proposing the following phase-in schedule to provide interested parties with the contemplated compliance percentages for each year of the phase-in:

• MY 2006 (September 1, 2005 through August 31, 2006): 50 percent of all vehicles that are produced by manufacturers and are subject to the phase-in must comply. Advance credits for early compliance may be used on a one-to-one basis.

• MY 2007 (September 1, 2006 through August 31, 2007): 80 percent of all vehicles that are produced by manufacturers and are subject to the phase-in must comply. Advance credits may be used on a one-to-one basis.

• September 1, 2007: all vehicles, regardless of whether they are subject to the phase-in, must comply. No advance credits may be used.

We are proposing to exclude vehicles manufactured in two or more stages and altered vehicles from the phase-in requirements. Final-stage manufacturers have no control over the vehicles that the previous-stage manufacturer decides to modify to meet the phase-in requirements. Accordingly, the final-stage manufacturer may have little or no choice in purchasing an incomplete vehicle that meets the requirements of the proposed rule. While alterers have more control, since they are only purchasing completed vehicles, they may have limited control over purchasing completed, certified vehicles in a manner that would allow them to meet the phase-in requirements. This is because, as with the final-stage manufacturers, the end customer often makes the final decision as to which type of vehicle to purchase. All multi-stage and altered vehicles manufactured on or after September 1, 2007 must be certified as complying with the new requirements.

We have tentatively decided to also exclude small volume manufacturers (i.e., manufacturers of less than 5,000 vehicles per year produced for the U.S. market) from the phase-in because of their small size. However, NHTSA notes that, unlike the advanced air bag or tire pressure monitor system rulemakings, in which the technologies used to comply with the standard are relatively new, the technologies for lap/shoulder belts are well established. Accordingly, these manufacturers are unlikely to face the supply-and-demand problems anticipated in the afore-referenced rulemakings.

We have also tentatively decided to allow manufacturers of two or fewer carlines to opt out of the first year of the phase-in as long as 100% of their vehicles are certified as complying with the new requirements during the second year of the phase-in. NHTSA is considering allowing manufacturers to claim advanced credits for that second year, although we believe it is unlikely they would be needed.

The proposed regulatory text addressing the phase-in reporting requirements gathers together the phase-in requirements for all safety standards being phased-in and places them in a single part of the Code of Federal Regulations, 49 CFR Part 585. This would allow people henceforth to look to a single source for all reporting requirements associated with phase-ins. While no substantive changes are proposed for existing reporting requirements, some changes have been made for consistency of text. We encourage interested parties to review these changes to ensure that no substantive changes have been made.

VI. Request for Comments

NHTSA seeks answers to the following questions, as well as comments on this notice in general.

1. What are the projected costs associated with increasing seat back strength to allow for lap/shoulder belts that are integrated into the seat back?

2. What are the potential benefits and disbenefits associated with requiring integral lap/shoulder belts for rear-facing designated seating positions, and what are the projected costs associated with such a requirement?

3. What are the potential technological impediments associated with requiring integral lap/shoulder belts for rear-facing designated seating positions?

4. What are the potential benefits and disbenefits associated with requiring integral lap/shoulder belts for forward-facing outboard designated seating positions adjacent to an aisle located next to the side of the vehicle and used for ingress and egress to more rearward seating positions, and what are the projected costs associated with such a requirement?

5. How many seats referenced in question 4, if any, currently use a lap/shoulder belt integrated into the vehicle seat or other technology that provides a lap/shoulder belt without impeding access to more rearward seats, and what are the estimated costs associated with such technologies?

6. How many swivel seats, if any, currently use a lap/shoulder belt integrated into the vehicle seat or other technology that provides a lap/shoulder belt, and what are the estimated costs associated with such technologies?

7. How many readily removable seats, if any, currently use a lap/shoulder belt integrated into the vehicle seat or other technology that provides a lap/shoulder belt, and what are the costs associated with such technologies?

8. What are the benefits and disbenefits associated with allowing detachable shoulder belts for seats other than those that are readily removable?

9. What are the potential benefits and disbenefits associated with requiring integral lap/shoulder belts for side-facing designated seating positions, and what are the projected costs associated with such a requirement?

10. NHTSA seeks information on side-facing seat studies in multiple crash modes. Should the agency prohibit the installation of Type 2 belts for side-facing seats?

11. What are the benefits and disbenefits associated with a requirement for integral lap/shoulder belts for the front center seats in passenger cars and LTVs, particularly vehicles that have a single row of seats?

12. What are the benefits and disbenefits associated with a requirement for integral lap/shoulder belts in all designated rear seating positions on buses, other than school buses, with a GVWR of 4,536 kg (10,000 lb) or less?

13. What are the potential technological impediments associated with requiring integral lap/shoulder belts for rear designated seating positions on buses, other than school buses, with a GVWR of 4,536 kg (10,000 lb) or less?

14. NHTSA requests comment on the proposed phase-in schedule. Should special provision be made for small volume manufacturers and manufacturers of two or fewer carlines? If so, please provide data and information that would justify such a provision.

15. Is it still appropriate to exclude particular vehicle types, e.g., motor homes, walk-in vans, and driver positions in heavy trucks and buses, from requirements for lap/shoulder belts at designated seating positions?

16. Is there a need to develop comfort and convenience test procedures for rear designated seating positions?

17. NHTSA seeks information on seat belt fit studies conducted on rear seat occupants of varying size and stature. The agency also requests the results of any dynamic testing of any adjustable seat belt anchorages at different anchorage adjustments that would allow NHTSA to determine the appropriateness of requiring adjustable anchorages for rear lap/shoulder belts.

18. Is there a need to extend the frontal impact crash test requirements of FMVSS No. 208 to the rear seating positions?

19. What percentage of cars have lap/shoulder safety belts in the rear center seating positions in MY 2003 and what percentage are planned to have them in MY 2004? What percentage of LTVs have lap/shoulder safety belts in the rear center seating positions in MY 2003 and what percentage are planned to have them in MY 2004?

20. What is the cost of installing a manual lap/shoulder belt system in place of the current lap belt system in front and rear center seats of passenger cars and LTVs? How would these center seat systems differ in design and cost from current outboard systems?

VII. Rulemaking Analyses and Notices

A. Executive Order 12866 and DOT Regulatory Policies and Procedures

NHTSA has considered the impact of this rulemaking action under Executive Order 12866 and the Department of Transportation's regulatory policies and procedures. This rulemaking is economically significant. Accordingly, the Office of Management and Budget has reviewed this rulemaking document under E.O. 12866, “Regulatory Planning and Review.” The rulemaking action has also been determined to be significant under the Department's regulatory policies and procedures. The benefits and costs associated with today's rule have been briefly discussed earlier in this document. For a more detailed analysis, please refer to the preliminary economic analysis supporting today's proposal.

B. Regulatory Flexibility Act

We have considered the effects of this rulemaking action under the Regulatory Flexibility Act (5 U.S.C. 601 et seq.) This action would not have a significant economic impact on a substantial number of small businesses because the vast majority of motor vehicle manufacturers are not small businesses. Small organizations and small governmental units would not be significantly affected by the proposed rule since the potential cost impacts associated with this proposal should only slightly increase the price of new motor vehicles. A more complete analysis of the impact of today's rule on small businesses, organizations, and governmental units may be found in the preliminary economic analysis.

C. National Environmental Policy Act

NHTSA has analyzed this proposed amendment for the purposes of the National Environmental Policy Act and determined that it would not have any significant impact on the quality of the human environment.

D. Executive Order 13132 (Federalism)

The agency has analyzed this rulemaking in accordance with the principles and criteria contained in Executive Order 13132 and has determined that it does not have sufficient federalism implications to warrant consultation with State and local officials or the preparation of a federalism summary impact statement. The final rule, if issued, would have no substantial effects on the States, or on the current Federal-State relationship, or on the current distribution of power and responsibilities among the various local officials. The final rule, if issued, is not intended to preempt state tort civil actions.

E. Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). The final rule, if issued, would require the expenditure of resources above and beyond $100 million annually. NHTSA will explore various options based on the response to the public comments. For example, the agency could decide to exclude rear-facing seats from the final rule. Likewise, it could decide to require a lap/shoulder belt for the front seat of some, but not all vehicles with a center designated seating position.

F. Executive Order 12778 (Civil Justice Reform)

The proposed rule would not have any retroactive effect. Under section 49 U.S.C. 30103, whenever a Federal motor vehicle safety standard is in effect, a state may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

G. Paperwork Reduction Act

Under the Paperwork Reduction Act of 1995, a person is not required to respond to a collection of information by a Federal agency unless the collection displays a valid OMB control number. This proposal contains a collection of information because of the proposed phase-in reporting requirements. There is no burden to the general public.

We are submitting a request for OMB clearance of the collection of information required under today's proposal. These requirements and our estimates of the burden to vehicle manufacturers are as follows:

• NHTSA estimates there are 21 manufacturers of passenger cars, multipurpose passenger vehicles, trucks, and buses having a GVWR of 4,536 kg (10,000 lb) or less.

• NHTSA estimates that the total annual reporting and recordkeeping burden resulting from the collection of information is 1,260 hours.

• NHTSA estimates that the total annual cost burden, in U.S. dollars, will be $0.00. No additional resources will be expended by vehicle manufacturers to gather annual production information because they already compile this data for their own use.

Organizations and individuals that wish to submit comments on the information collection requirements should direct them to the Office of Information and Regulatory Affairs, OMB, Room 10235, New Executive Office Building, Washington, DC 20503; Attention Desk Officer for NHTSA.

The purpose of the reporting requirements will be to aid NHTSA in determining whether a manufacturer has complied with the requirements of FMVSS No. 208 during the phase-in of those requirements. NHTSA requests comments on this proposed collection of information in evaluating:

• The accuracy of the agency's estimate of the burden of the proposed collection of information;

• The quality, utility, and clarity of the information collected; and

• The opportunities to minimize the information collection burden.

H. Executive Order 13045

Executive Order 13045 applies to any rule that: (1) is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

As noted earlier, this rulemaking is economically significant. Additionally, it is expected to have a disproportionate effect on children, since children are most likely to sit in the rear seat. However, the impact of this rulemaking on children would be beneficial instead of detrimental.

I. National Technology Transfer and Advancement Act

Section 12(d) of the National Technology Transfer and Advancement Act (NTTAA) requires NHTSA to evaluate and use existing voluntary consensus standards ⁷ in its regulatory activities unless doing so would be inconsistent with applicable law (e.g., the statutory provisions regarding NHTSA's vehicle safety authority) or otherwise impractical. In meeting that requirement, we are required to consult with voluntary, private sector, consensus standards bodies. Examples of organizations generally regarded as voluntary consensus standards bodies include the American Society for Testing and Materials (ASTM), the Society of Automotive Engineers (SAE), and the American National Standards Institute (ANSI). If NHTSA does not use available and potentially applicable voluntary consensus standards, we are required by the Act to provide Congress, through OMB, an explanation of the reasons for not using such standards. NHTSA has searched the voluntary consensus standards generally applicable to the manufacture of motor vehicles and is unaware of any standards relevant to this rule. If relevant standards exist, please provide NHTSA with the proper citations.

⁷ Voluntary consensus standards are technical standards developed or adopted by voluntary consensus standards bodies. Technical standards are defined by the NTTAA as “performance-based or design-specific technical specifications and related management systems practices.” They pertain to “products and processes, such as size, strength, or technical performance of a product, process or material.”

J. Comments

How Do I Prepare and Submit Comments?

Your comments must be written and in English. To ensure that your comments are correctly filed in the Docket, please include the docket number of this document in your comments.

Your comments must not be more than 15 pages long. (49 CFR 553.21.) We established this limit to encourage you to write your primary comments in a concise fashion. However, you may attach necessary additional documents to your comments. There is no limit on the length of the attachments.

Please submit two copies of your comments, including the attachments, to Docket Management at the address given under ADDRESSES.

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://dms.dot.gov to review the statement.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How Can I Read the Comments Submitted by Other People?

You may read the comments received by Docket Management at the address given above under ADDRESSES. The hours of the Docket are indicated above in the same location.

You may also see the comments on the Internet. To read comments on the Internet, take the following steps:

1. Go to the Docket Management System (DMS) Web page of the Department of Transportation (http://dms.dot.gov/).

2. On that page, click on “simple search.”

3. On the next page, type in the docket number shown at the beginning of this document. There is no need to type in the name of the agency or the year that the docket was opened. For example, if the docket number is “NHTSA-03-123545,” you would type in “12345”. After typing the docket number, click on “search.”

4. On the next page, which contains docket summary information for the docket you selected, click on the desired comments. You may download the comments.

Please note that even after the comment closing date, we will continue to file relevant information in the Docket as it becomes available. Further, some people may submit late comments. Accordingly, we recommend that you periodically check the Docket for new material.

K. Plain Language

Executive Order 12866 requires each agency to write all rules in plain language. Today's proposal has been written with that directive in mind, although FMVSS No. 208, in general, is a complicated regulation. We note that some of the requirements proposed today are technical in nature. As such, they may require some understanding of technical terminology. We expect those parties directly affected by today's rule, i.e., vehicle manufacturers, to be familiar with such terminology.

L. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

In consideration of the foregoing, NHTSA proposes to amend 49 CFR Chapter V as follows:

List of Subjects in 49 CFR Parts 571, 585, 586, 589, 590, and 596

Imports, Motor vehicle safety, Reporting and recordkeeping requirements, Tires.

PART 571—FEDERAL MOTOR VEHICLE SAFETY STANDARDS

1. The authority citation for part 571 of title 49 would continue to read as follows:

Authority: 49 U.S.C. 322, 30111, 30115, 30117, 30166 delegation of authority at 49 CFR 1.50.

2. Section 571.138 would be amended by revising S7.5.2 to read as follows:

§ 571.138 Standard No. 138; Tire pressure monitoring systems.

* * * * *

S7.5.2 A vehicle produced by more than one manufacturer must be attributed to any one of the vehicle's manufacturers specified by an express written contract, reported to the National Highway Traffic Safety Administration under 49 CFR Part 585, between the manufacturer so specified and the manufacturer to which the vehicle would otherwise be attributed under S7.5.1.

* * * * *

3. Section 571.201 would be amended by revising S6.1.6.2 to read as follows:

§ 571.201 Standard No. 201; Occupant protection in interior impact.

* * * * *

S6.1.6.2 A vehicle produced by more than one manufacturer must be attributed to any one of the vehicle's manufacturers specified by an express written contract, reported to the National Highway Traffic Safety Administration under 49 CFR Part 585, between the manufacturer so specified and the manufacturer to which the vehicle would otherwise be attributed under S6.1.6.1.

* * * * *

4. Section 571.208 would be amended by adding S4.1.5.5, S4.2.7, S4.4.5, and S4.5.5 as follows:

§ 571.208 Standard No. 208; Occupant crash protection.

* * * * *

S4.1.5.5 Passenger cars manufactured on or after September 1, 2007. Each passenger car shall have a Type 2 seat belt assembly that conforms to Standard No. 209 and to S7.1 and S7.2 of this standard at each rear designated seating position, except that side-facing designated seating positions shall have a Type 1 seat belt assembly that conforms to Standard No. 209 and to S7.1 and S7.2 of this standard.

* * * * *

S4.2.7 Rear seating positions in trucks, and multipurpose passenger vehicles manufactured on or after September 1, 2007 with a GVWR of 10,000 lbs. (4,536 kg) or less.

S4.2.7.1 Except as provided in S4.2.7.2, S4.2.7.3, and S4.2.7.4, each truck and each multipurpose passenger vehicle, other than a motor home, a walk-in van-type truck, or a vehicle designed to be sold exclusively to the U.S. Postal Service with a GVWR of 10,000 lbs. (4,536 kg) or less, or a vehicle carrying chassis-mount camper with a gross vehicle weight rating of 8,500-10,000 lbs. (3,855-4,536 kg), shall be equipped with a Type 2 seat belt assembly at every rear designated seating position. Type 2 seat belt assemblies installed in compliance with this requirement shall conform to Standard No. 209 (49 CFR 571.209) and with S7.1 and S7.2 of this standard. If a Type 2 seat belt assembly installed in conformity to this requirement incorporates any webbing tension-relieving device, the vehicle owner's manual shall include the information specified in S7.4.2(b) of this standard for the tension relieving device, and the vehicle shall conform to S7.4.2(c) of this standard.

S4.2.7.2 Any rear designated seating position with a seat that can be adjusted to be forward-facing and to face some other direction shall either:

(a) Meet the requirements of S4.2.7.1 with the seat in any position in which it can be occupied while the vehicle is in motion; or

(b) When the seat is in its forward-facing position, have a Type 2 seat belt assembly with an upper torso restraint that conforms to S7.1 and S7.2 of this standard and that adjusts by means of an emergency locking retractor that conforms to Standard No. 209 (49 CFR 571.209), which upper torso restraint may be detachable at the buckle, and, when the seat is in any position in which it can be occupied while the vehicle is in motion, have a Type 1 seat belt or the pelvic portion of a Type 2 seat belt assembly that conforms to S7.1 and S7.2 of this standard.

S4.2.7.3 Any rear designated seating position on a readily removable seat (i.e., a seat designed to be easily removed and replaced by means installed by the manufacturer for that purpose) shall meet the requirements of S4.2.7.1 and may use an upper torso belt that detaches at either its upper or lower anchorage point, but not both anchorage points, to meet those requirements. The means for detaching the upper torso belt may be operable by push button action.

S4.2.7.4 Any rear side-facing designated seating position shall have a Type 1 seat belt assembly that conforms to S7.1 and S7.2 of this standard.

* * * * *

S4.4.5 Buses with a GVWR of 10,000 lbs. (4,536 kg) or less manufactured on or after September 1, 2007.

S4.4.5.1 Except as provided in S4.4.5.2, S4.4.5.3, and S4.4.5.4, each bus with a gross vehicle weight rating of 10,000 lbs. (4,536 kg) or less shall be equipped with a Type 2 seat belt assembly at the driver's designated seating position and at the front and every rear designated seating position. Type 2 seat belt assemblies installed in compliance with this requirement shall conform to Standard No. 209 (49 CFR 571.209) and with S7.1 and S7.2 of this standard. If a Type 2 seat belt assembly installed in compliance with this requirement incorporates a webbing tension relieving device, the vehicle owner's manual shall include the information specified in S7.3.1(b) of this standard for the tension relieving device, and the vehicle shall conform to S7.4.2(c) of this standard.

S4.4.5.2 Any rear designated seating position with a seat that can be adjusted to be forward-facing and to face some other direction shall either:

(a) Meet the requirements of S4.4.5.1 with the seat in any position in which it can be occupied while the vehicle is in motion; or

(b) (1) When the seat is in its forward-facing position, have a Type 2 seat belt assembly with an upper torso restraint that

(i) conforms to S7.1 and S7.2 of this standard,

(ii) adjusts by means of an emergency locking retractor conforming to Standard No. 209 (49 CFR 571.209), and

(iii) may be detachable at the buckle, and

(2) When the seat is in any position in which it can be occupied while the vehicle is in motion, have a Type 1 seat belt or the pelvic portion of a Type 2 seat belt assembly that conforms to S7.1 and S7.2 of this standard.

S4.4.5.3 Any rear designated seating position on a readily removable seat (that is, a seat designed to be easily removed and replaced by means installed by the manufacturer for that purpose) shall meet the requirements of S4.4.5.1 and may use an upper torso belt that detaches at either its upper or lower anchorage point, but not both anchorage points, to meet those requirements. The means for detaching the upper torso belt may be operable by push button action.

S4.4.5.4 Any rear side-facing designated seating position shall have a Type 1 seat belt assembly that conforms to S7.1 and S7.2 of this standard.

* * * * *

S4.5.5 Rear seat belt requirements for passenger cars and for trucks, buses, and multipurpose passenger vehicles with a GVWR of 4,536 kg (10,000 lbs.) or less.

S4.5.5.1 Vehicles manufactured on or after September 1, 2005 and before September 1, 2007.

(a) For vehicles manufactured for sale in the United States on or after September 1, 2005, and before September 1, 2007, a percentage of the manufacturer's production as specified in S4.5.5.2, shall meet the requirements specified in either S4.1.5.5 for complying passenger cars, S4.2.7 for complying trucks and multipurpose passenger vehicles, or S4.4.5 for complying buses.

(b) A manufacturer that sells two or fewer carlines, as that term is defined at 49 CFR 583.4, in the United States may, at the option of the manufacturer, meet the requirements of this paragraph, instead of paragraph (a). Each vehicle manufactured on or after September 1, 2006, and before September 1, 2007, shall meet the requirements specified in S4.1.5.5 for complying passenger cars, S4.2.7 for complying trucks & multipurpose passenger vehicles, and S4.4.5 for complying buses.

(c) Vehicles that are manufactured in two or more stages or that are altered (within the meaning of 49 CFR 567.7) after having previously been certified in accordance with Part 567 of this chapter are not subject to the requirements of S4.5.5.1.

(d) Vehicles that are manufactured by a manufacturer that produces fewer than 5,000 vehicles annually for sale in the United States are not subject to the requirements of S4.5.5.1.

S4.5.5.2 Phase-in schedule.

(a) Vehicles manufactured on or after September 1, 2005, and before September 1, 2006. Subject to S4.5.5.3(a), for vehicles manufactured on or after September 1, 2005, and before September 1, 2006, the amount of vehicles complying with S4.1.5.5 for complying passenger cars, S4.2.7.1 for complying trucks and multipurpose passenger vehicles, or S4.4.5.1 for complying buses shall be not less than 50 percent of:

(1) If the manufacturer has manufactured vehicles for sale in the United States during both of the two production years immediately prior to September 1, 2005, the manufacturer's average annual production of vehicles manufactured on or after September 1, 2003, and before September 1, 2006, or

(2) The manufacturer's production on or after September 1, 2005, and before September 1, 2006.

(b) Vehicles manufactured on or after September 1, 2006, and before September 1, 2007. Subject to S4.5.5.3(b), for vehicles manufactured on or after September 1, 2006, and before September 1, 2007, the amount of vehicles complying with S4.1.5.5 for complying passenger cars, S4.2.7.1 for complying trucks and multipurpose passenger vehicles, or S4.4.5.1 for complying buses shall be not less than 80 percent of:

(1) If the manufacturer has manufactured vehicles for sale in the United States during both of the two production years immediately prior to September 1, 2006, the manufacturer's average annual production of vehicles manufactured on or after September 1, 2004, and before September 1, 2007, or

(2) The manufacturer's production on or after September 1, 2006, and before September 1, 2007.

S4.5.5.3 Calculation of complying vehicles.

(a) For the purposes of complying with S4.5.5.2(a), a manufacturer may count a vehicle if it is manufactured on or after (date 60 days after publication of Final Rule in the Federal Register), but before September 1, 2006.

(b) For the purposes of complying with S4.5.5.2(b), a manufacturer may count a vehicle if it:

(1) Is manufactured on or after (date 60 days after publication of Final Rule in the Federal Register), but before September 1, 2007, and

(2) Is not counted toward compliance with S4.5.5.2(a).

S4.5.5.4 Vehicles produced by more than one manufacturer.

(a) For the purpose of calculating average annual production of vehicles for each manufacturer and the number of vehicles manufactured by each manufacturer under S4.5.5.2, a vehicle produced by more than one manufacturer shall be attributed to a single manufacturer as follows, subject to paragraph (b) of this section.

(1) A vehicle that is imported shall be attributed to the importer.

(2) A vehicle manufactured in the United States by more than one manufacturer, one of which also markets the vehicle, shall be attributed to the manufacturer that markets the vehicle.

(b) A vehicle produced by more than one manufacturer shall be attributed to any one of the vehicle's manufacturers specified by an express written contract, reported to the National Highway Traffic Safety Administration under 49 CFR Part 585, between the manufacturer so specified and the manufacturer to which the vehicle would otherwise be attributed under paragraph (a) of this section.

5. Section 571.225 would be amended by revising S14.2.2 to read as follows:

§ 571.225 Standard No. 225; Child restraint anchorage systems.

* * * * *

S14.2.2 A vehicle produced by more than one manufacturer must be attributed to any one of the vehicle's manufacturers specified by an express written contract, reported to the National Highway Traffic Safety Administration under 49 CFR Part 585, between the manufacturer so specified and the manufacturer to which the vehicle would otherwise be attributed under S14.2.1.

* * * * *

6. The authority citation for part 585 of title 49 would continue to read as follows:

Authority: 49 U.S.C. 322, 30111, 30115, 30117, and 30166; delegation of authority at 49 CFR 1.50.

7. Part 585 would be revised to read as follows:

PART 585—PHASE-IN REPORTING REQUIREMENTS

Subpart A—General

Sec.
585.1 Definitions.
585.2 Phase-in reports.
585.3 Vehicles produced by more than one manufacturer.
585.4 Petitions to extend period to file report.

§ 585.1 Definitions.

(a) All terms defined in 49 U.S.C. 30102 are used in accordance with their statutory meaning.

(b) The terms bus, gross vehicle weight rating or GVWR, multipurpose passenger vehicle, passenger car, and truck are used as defined in section 571.3 of this chapter.

(c) Production year means the 12-month period between September 1 of one year and August 31 of the following year, inclusive, unless otherwise specified.

§ 585.2 Phase-in reports.

Each report submitted to NHTSA under this part shall:

(a) Identify the manufacturer;

(b) State the full name, title, and address of the official responsible for preparing the report;

(c) Identify the production year being reported on;

(d) Contain a statement regarding whether or not the manufacturer complied with the requirements of the Federal motor vehicle safety standard addressed by the report, for the period covered by the report, and the basis for that statement;

(e) Be written in the English language; and

(f) Be submitted to: Administrator, National Highway Traffic Safety Administration, 400 Seventh Street, SW., Washington, DC 20590.

§ 585.3 Vehicles produced by more than one manufacturer.

Each manufacturer whose reporting of information is affected by one or more of the express written contracts permitted by a Federal Motor Vehicle Safety Standard subject to the reporting requirements of this part shall:

(a) Report the existence of each contract, including the names of all parties to the contract and explain how the contract affects the report being submitted.

(b) Report the number of vehicles covered by each contract in each production year.

§ 585.4 Petitions to extend period to file report.

A petition for extension of the time to submit a report required under this part shall be received not later than 15 days before the report is due. The petition shall be submitted to: Administrator, National Highway Traffic Safety Administration, 400 Seventh Street, SW, Washington, DC 20590. The filing of a petition does not automatically extend the time for filing a report. A petition will be granted only if the petitioner shows good cause for the extension, and if the extension is consistent with the public interest.

Subpart B—Advanced Air Bag Phase-in Reporting Requirements

Sec.
585.11 Scope.
585.12 Purpose.
585.13 Applicability.
585.14 Definitions.
585.15 Reporting requirements.
585.16 Records.
§ 585.11 Scope.

This subpart establishes requirements for manufacturers of passenger cars and trucks, buses, and multipurpose passenger vehicles with a GVWR of 3,855 kg or less and an unloaded vehicle weight of 2,495 kg or less to submit reports, and maintain records related to the reports, concerning the number and identification of such vehicles that are certified as complying with the advanced air bag requirements of Standard No. 208, Occupant crash protection (49 CFR 571.208).

§ 585.12 Purpose.

The purpose of these reporting requirements is to aid the National Highway Traffic Safety Administration in determining whether a manufacturer has complied with the advanced air bag requirements of Standard No. 208 during the phase-ins of those requirements.

§ 585.13 Applicability.

This subpart applies to manufacturers of passenger cars and trucks, buses, and multipurpose passenger vehicles with a GVWR of 3,855 kg or less and an unloaded vehicle weight of 2,495 kg or less. However, this subpart does not apply to any manufacturers whose production consists exclusively of walk-in vans, vehicles designed to be sold exclusively to the U.S. Postal Service, vehicles manufactured in two or more stages, and vehicles that are altered after previously having been certified in accordance with part 567 of this chapter. In addition, this subpart does not apply to manufacturers whose production of motor vehicles for the United States market is less than 5,000 vehicles in a production year.

§ 585.14 Definitions.

For the purposes of this subpart,

(a) Phase one of the advanced air bag requirements of Standard No. 208 refers to the requirements set forth in S14.1, S14.2, S14.5.1(a), S14.5.2, S15.1, S15.2, S17, S19, S21, S23, and S25 of Federal Motor Vehicle Safety Standard No. 208, 49 CFR 571.208.

(b) Phase two of the advanced air bag reporting requirements of Standard No. 208 refers to the requirements set forth in S14.3, S14.4, S14.5.1(b), S14.5.2, S15.1, S15.2, S17, S19, S21, S23, and S25 of Federal Motor Vehicle Safety Standard No. 208, 49 CFR 571.208.

(c) Vehicles means passenger cars and trucks, buses, and multipurpose passenger vehicles with a GVWR of 3,855 kg or less and an unloaded vehicle weight of 2,495 kg or less manufactured for sale in the United States whose production of motor vehicles for sale in the United States is equal to or greater than 5,000 vehicles in a production year, and does not mean walk-in vans, vehicles designed to be sold exclusively to the U.S. Postal Service, vehicles manufactured in two or more stages, and vehicles that are altered after previously having been certified in accordance with part 567 of this chapter.

§ 585.15 Reporting requirements.

(a) Advanced credit phase-in reporting requirements.

(1) Within 60 days after the end of production years ending August 31, 2000, August 31, 2001, August 31, 2002, and August 31, 2003, each manufacturer choosing to certify vehicles manufactured during any of those production years as complying with phase one of the advanced air bag requirements of Standard No. 208 shall submit a report to the National Highway Traffic Safety Administration providing the information specified in paragraph (c) of this section and in § 585.2 of this part.

(2) Within 60 days after the end of the production year ending August 31, 2007, each manufacturer choosing to certify vehicles manufactured during that production year as complying with phase two of the advanced air bag requirements of Standard No. 208 shall submit a report to the National Highway Traffic Safety Administration providing the information specified in paragraph (c) of this section and in § 585.2 of this part.

(b) Phase-in reporting requirements.

(1) Within 60 days after the end of the production years ending August 31, 2004, August 31, 2005, and August 31, 2006, each manufacturer shall submit a report to the National Highway Traffic Safety Administration regarding its compliance with phase one of the advanced air bag requirements of Standard No. 208 for its vehicles produced in that production year. The report shall provide the information specified in paragraph (d) of this section and in § 585.2 of this part. Each report shall also specify the number of advance credit vehicles, if any, which are being applied to the production year being reported on.

(2) Within 60 days after the end of production years ending August 31, 2008, August 31, 2009, and August 31, 2010, each manufacturer shall submit a report to the National Highway Traffic Safety Administration regarding its compliance with phase two of the advanced air bag requirements of Standard No. 208 for its vehicles produced in that production year. The report shall provide the information specified in paragraph (d) of this section and in § 585.2 of this part. Each report shall also specify the number of advance credit vehicles, if any, which are being applied to the production year being reported on.

(c) Advanced credit phase-in report content.

(1) With respect to the reports identified in section 585.15(a)(1), each manufacturer shall report for the production year for which the report is filed the number of vehicles, by make and model year, that meet the applicable advanced air bag requirements of Standard No. 208, and to which advanced air bag requirements the vehicles are certified.

(2) With respect to the report identified in section 585.15(a)(2), each manufacturer shall report the number of vehicles, by make and model year, that meet the applicable advanced air bag requirements of Standard No. 208, and to which the advanced air bag requirements the vehicles are certified.

(d) Phase-in report content.

(1) Basis for phase-in production requirements. For production years ending August 31, 2003, August 31, 2004, August 31, 2005, August 31, 2007, August 31, 2008, and August 31, 2009, each manufacturer shall provide the number of vehicles manufactured in the current production year, or, at the manufacturer's option, for the current production year and each of the prior two production years if the manufacturer has manufactured vehicles during both of the two production years prior to the year for which the report is being submitted.

(2) Production of complying vehicles. Each manufacturer shall report for the production year for which the report is filed the number of vehicles, by make and model year, that meet the applicable advanced air bag requirements of Standard No. 208, and to which advanced air bag requirements the vehicles are certified.

§ 585.16 Records.

Each manufacturer shall maintain records of the Vehicle Identification Number of each vehicle for which information is reported under § 585.15(c)(1) and (d)(2) until December 31, 2011.

Subpart C—Rear Center Lap/Shoulder Belt Phase-in Reporting Requirements

Sec.
585.21 Scope.
585.22 Purpose.
585.23 Applicability.
585.24 Reporting requirements.
585.25 Records.

§ 585.21 Scope.

This subpart establishes requirements for manufacturers of passenger cars and for trucks, buses, and multipurpose passenger vehicles with a GVWR of 4,536 kg (10,000 lb) or less to submit reports, and maintain records related to the reports, concerning the number and identification of such vehicles that are certified as complying with the Type 2 seat belt requirements for rear seating positions of Standard No. 208, Occupant crash protection (49 CFR 571.208).

§ 585.22 Purpose.

The purpose of these reporting requirements is to assist the National Highway Traffic Safety Administration in determining whether a manufacturer has complied with the Type 2 seat belt requirements for rear seating positions of Standard No. 208.

§ 585.23 Applicability.

This subpart applies to manufacturers of passenger cars and trucks, buses, and multipurpose passenger vehicles with a GVWR of 4,536 kg or less. However, this subpart does not apply to any manufacturers whose production consists exclusively of walk-in vans, vehicles designed to be sold exclusively to the U.S. Postal Service, vehicles manufactured in two or more stages, and vehicles that are altered after previously having been certified in accordance with part 567 of this chapter. In addition, this subpart does not apply to manufacturers whose worldwide production of motor vehicles is less than 5,000 vehicles in a production year.

§ 585.24 Reporting requirements.

(a) Advanced credit phase-in reporting requirements.

Within 60 days after the end of the production year ending August 31, 2004, each manufacturer choosing to certify vehicles manufactured during that production year as complying with the Type 2 seat belt for each rear designated seating position requirements of Standard No. 208 shall submit a report to the National Highway Traffic Safety Administration providing the information specified in paragraph (c) of this section and in § 585.2 of this part.

(b) Phase-in reporting requirements.

Within 60 days after the end of the production years ending August 31, 2005, and August 31, 2006, each manufacturer shall submit a report to the National Highway Traffic Safety Administration regarding its compliance with the Type 2 seat belt for each rear designated seating position requirements of Standard No. 208 for its vehicles produced in that production year. The report shall provide the information specified in paragraph (d) of this section and in § 585.2 of this part. Each report shall also specify the number of advance credit vehicles, if any, which are being applied to the production year being reported on.

(c) Advanced credit phase-in report content.

With respect to the reports identified in section 585.24(a), each manufacturer shall report for the production year for which the report is filed the number of vehicles, by make and model year, that meet the applicable Type 2 seat belt for each rear designated seating position requirements of Standard No. 208.

(d) Phase-in report content.

(1) Basis for phase-in production requirements. For production years ending August 31, 2005, and August 31, 2006 each manufacturer shall provide the number of vehicles manufactured in the current production year, or, at the manufacturer's option, for the current production year and each of the prior two production years if the manufacturer has manufactured vehicles during each production year prior to the year for which the report is being submitted.

(2) Production of complying vehicles. Each manufacturer shall report for the production year for which the report is filed the number of vehicles, by make and model year, that meet the applicable Type 2 seat belt for each rear designated seating position requirements of Standard No. 208.

§ 585.25 Records.

Each manufacturer shall maintain records of the Vehicle Identification Number of each vehicle for which information is reported under § 585.24(c) and (d)(2) until December 31, 2008.

Subpart D—Tire Pressure Monitoring System Phase-in Reporting Requirements

Sec.
585.31 Scope.
585.32 Purpose.
585.33 Applicability.
585.34 Definitions.
585.35 Response to inquiries.
585.36 Reporting requirements.
585.37 Records.

§ 585.31 Scope.

This subpart establishes requirements for manufacturers of passenger cars, multipurpose passenger vehicles, trucks and buses with a GVWR of 4,536 kg or less, except those vehicles with dual wheels on an axle, to submit a report, and maintain records related to the report, concerning the number of such vehicles that meet the requirements of Standard No. 138, Tire pressure monitoring systems (49 CFR 571.138).

§ 585.32 Purpose.

The purpose of these reporting requirements is to assist the National Highway Traffic Safety Administration in determining whether a manufacturer has complied with Standard No. 138.

§ 585.33 Applicability.

This subpart applies to manufacturers of passenger cars, multipurpose passenger vehicles, trucks and buses with a gross vehicle weight rating of 4,536 kg or less, except those vehicles with dual wheels on an axle. However, this subpart does not apply to any manufacturers whose production consists exclusively of vehicles manufactured in two or more stages, and vehicles that are altered after previously having been certified in accordance with part 567 of this chapter. In addition, this subpart does not apply to manufacturers whose production of motor vehicles for the United States market is less than 500 vehicles in a production year.

§ 585.34 Definitions.

For the purposes of this subpart, production year means the 12-month period between November 1 of one year and October 31 of the following year, inclusive.

§ 585.35 Response to inquiries.

At any time during the production years ending October 31, 2004, October 31, 2005, October 1, 2006, each manufacturer must, upon request from the Office of Vehicle Safety Compliance, provide information identifying the vehicles (by make, model, and vehicle identification number) that have been certified as complying with Standard No. 138. The manufacturer's designation of a vehicle as a certified vehicle is irrevocable.

§ 585.36 Reporting requirements.

(a) General reporting requirements. Within 60 days after the end of the production years ending October 31, 2004, October 31, 2005, and October 31, 2006, each manufacturer must submit a report to the National Highway Traffic Safety Administration concerning its compliance with Standard No. 138 (49 CFR 571.138) for passenger cars, multipurpose passenger vehicles, trucks, and buses with a gross vehicle weight rating of 4,536 kg or less produced in that year. The report shall provide the information specified in paragraph (b) of this section and in § 585.2 of this part.

(b) Report content.

(1) Basis for statement of compliance. Each manufacturer must provide the number of passenger cars, multipurpose passenger vehicles, trucks, and buses with a GVWR of 4,536 kg or less, except those vehicles with dual wheels on an axle, manufactured for sale in the United States for each of the three previous production years, or, at the manufacturer's option, for the current production year. A new manufacturer that has not previously manufactured these vehicles for sale in the United States shall report the number of such vehicles manufactured during the current production year.

(2) Production. Each manufacturer must report for the production year for which the report is filed: the number of passenger cars, multipurpose passenger vehicles, trucks, and buses with a GVWR of 4,536 kg or less, that meet Standard No. 138; the number of passenger cars, multi-purpose passenger vehicles, trucks, and buses with a GVWR of 4,536 kg or less that comply.

§ 585.37 Records.

Each manufacturer must maintain records of the Vehicle Identification Number for each vehicle for which information is reported under § 585.36(b)(2) until December 31, 2008.

Subpart E—Child Restraint Anchorage System Phase-in Reporting Requirements

Sec.
585.41 Scope.
585.42 Purpose.
585.43 Applicability.
585.44 Response to inquiries.
585.45 Reporting requirements.
585.46 Records.

§ 585.41 Scope.

This subpart established requirements for manufacturers of passenger cars and of trucks and multipurpose passenger vehicles with a GVWR of 3,855 kg or less, and of buses with a GVWR of 4,536 kg or less, to submit a report, and maintain records related to the report, concerning the number of such vehicles that meet the requirements of Standard No. 225, Child restraint anchorage systems (49 CFR 571.225).

§ 585.42 Purpose.

The purpose of these reporting requirements is to assist the National Highway Traffic Safety Administration in determining whether a manufacturer has complied with Standard No. 225.

§ 585.43 Applicability.

This subpart applies to manufacturers of passenger cars, and of trucks and multipurpose passenger vehicles with a GVWR of 3,855 kg or less, and of buses with a GVWR of 4,536 kg or less. However, this subpart does not apply to vehicles excluded by S5 of Standard No. 225 from the requirements of the standard.

§ 585.44 Response to inquiries.

At any time during the production years ending August 31, 2000, August 31, 2001, and August 31, 2002, each manufacturer shall, upon request from the Office of Vehicle Safety Compliance, provide information identifying the vehicles (by make, model and vehicle identification number) that have been certified as complying with Standard No. 225. The manufacturer's designation of a vehicle as a certified vehicle is irrevocable.

§ 585.45 Reporting requirements.

(a) General reporting requirements. Within 60 days after the end of the production years ending August 31, 2000, August 31, 2001, and August 31, 2002, each manufacturer shall submit a report to the National Highway Traffic Safety Administration concerning its compliance with the child restraint anchorage system requirements of Standard No. 225 for its passenger cars, trucks, buses, and multipurpose passenger vehicles produced in that year. The report shall provide the information specified in paragraph (b) of this section and in § 585.2 of this part.

(b) Report content.

(1) Basis for phase-in production goals. Each manufacturer shall provide the number of passenger cars and trucks and multipurpose passenger vehicles with a GVWR of 3,855 kg or less, and buses with a GVWR of 4,536 kg or less manufactured for sale in the United States for each of the three previous production years, or, at the manufacturer's option, for the current production year. A new manufacturer that has not previously manufactured these vehicles for sale in the United States shall report the number of such vehicles manufactured during the current production year.

(2) Production. Each manufacturer shall report for the production year for which the report is filed: the number of passenger cars and trucks and multipurpose passenger vehicles with a GVWR of 3,855 kg or less, and buses with a GVWR of 4,536 kg or less, that meet Standard No. 225.

§ 585.46 Records.

Each manufacturer shall maintain records of the Vehicle Identification Number for each vehicle for which information is reported under § 585.45(b)(2) until December 31, 2004.

Subpart F—Upper Interior Component Head Impact Protection Phase-in Reporting Requirements

Sec.
585.51 Scope.
585.52 Purpose.
585.53 Applicability.
585.54 Response to inquiries.
585.55 Reporting requirements.
585.56 Records.

§ 585.51 Scope.

This subpart establishes requirements for manufacturers of passenger cars and trucks and multipurpose passenger vehicles with a GVWR of 4,536 kg and buses with a GVWR of 3,860 kg or less to respond to NHTSA inquiries, to submit a report, and to maintain records related to the report, concerning the number of such vehicles that meet the upper interior component head impact protection requirements of Standard No. 201, Occupant protection in interior impact (49 CFR 571.201).

§ 585.52 Purpose.

The purpose of these reporting requirements is to aid the National Highway Traffic Safety Administration in determining whether a manufacturer of passenger cars, trucks, and multipurpose vehicles with a GVWR of 4,536 kg or less and buses with a GVWR of 3,860 kg or less has complied with the upper interior component head impact protection requirements of Standard No. 201.

§ 585.53 Applicability.

This subpart applies to manufacturers of passenger cars, trucks, and multipurpose vehicles with a GVWR of 4,536 kg or less and buses with a GVWR of 3,860 kg or less. However, this subpart does not apply to any manufacturers whose production consists exclusively of walk-in vans, vehicles designed to be sold exclusively to the U.S. Postal Service, vehicles manufactured in two or more stages, and vehicles that are altered after previously having been certified in accordance with part 567 of this chapter.

§ 585.54 Response to inquiries.

During the production years ending August 31, 1999, August 31, 2000, August 31, 2001, and August 31, 2002, each manufacturer shall, upon request from the Office of Vehicle Safety Compliance, provide information regarding which vehicle make/models are certified as complying with the requirements of S6 of Standard No. 201.

§ 585.55 Reporting requirements.

(a) Phase-in selection reporting requirements. Within 60 days after the end of the production year ending August 31, 1999, each manufacturer choosing to comply with one of the phase-in schedules permitted by S6.1 of 49 CFR 571.201 shall submit a report to the National Highway Traffic Safety Administration stating which phase-in schedule it will comply with until September 1, 2002. Each report shall—

(1) Identify the manufacturer;

(2) State the full name, title, and address of the official responsible for preparing the report;

(3) Identify the section number for the phase-in schedule selected;

(4) Be written in the English language; and

(5) Be submitted to: Administrator, National Highway Traffic Safety Administration, 400 Seventh Street, SW., Washington, DC 20590.

(b) General reporting requirements.

Within 60 days after the end of the production years ending August 31, 1999, August 31, 2000, August 31, 2001, and August 31, 2002, each manufacturer shall submit a report to the National Highway Traffic Safety Administration concerning its compliance with the upper interior component head impact protection requirements of Standard No. 201 for its passenger cars, trucks, buses and multipurpose passenger vehicles produced in that year. The report shall provide the information specified in paragraph (c) of this section and in § 585.2 of this part.

(c) Report content.

(1) Basis for phase-in production goals. Each manufacturer shall provide the number of passenger cars and trucks and multipurpose passenger vehicles with a GVWR of 4,536 kg or less and buses with a GVWR of 3,860 kg or less manufactured for sale in the United States for each of the three previous production years, or, at the manufacturer's option, for the current production year. A new manufacturer that has not previously manufactured passenger cars and trucks and multipurpose passenger vehicles with a GVWR of 4,536 kg or less and buses with a GVWR of 3,860 kg or less for sale in the United States must report the number of such vehicles manufactured during the current production year. However, manufacturers are not required to report any information with respect to those vehicles that are walk-in vans, vehicles designed to be sold exclusively to the U.S. Postal Service, vehicles manufactured in two or more stages, and vehicles that are altered after previously having been certified in accordance with part 567 of this chapter.

(2) Production. Each manufacturer shall report for the production year for which the report is filed the number of passenger cars and multipurpose passenger vehicles and trucks with a GVWR of 4,536 kg or less and buses with a GVWR of 4,536 kg or less that meet the upper interior component head impact protection requirements (S6) of Standard No. 201.

§ 585.56 Records.

Each manufacturer shall maintain records of the Vehicle Identification Number for each passenger car, multipurpose passenger vehicle, truck and bus for which information is reported under § 585.55(c)(2) until December 31, 2003.

PART 586—[REMOVED AND RESERVED]

8. Part 586 would be removed and the part would be reserved.

PART 589—[REMOVED AND RESERVED]

9. Part 589 would be removed and the part would be reserved.

PART 590—[REMOVED AND RESERVED]

10. Part 590 would be removed and the part would be reserved.

PART 596—[REMOVED AND RESERVED]

11. Part 596 would be removed and the part would be reserved.

Issued: July 31, 2003.
Stephen R. Kratzke,
Associate Administrator for Rulemaking.

[FR Doc. 03-20024 Filed 8-5-03; 8:45 am]

BILLING CODE 4910-59-P